DEPARTMENT OF ENERGY

Federal Energy Regulatory Commission

Combined Notice of Filings #1

Take notice that the Commission received the following electric corporate filings:

Docket Numbers: EC25-123-000.

Applicants: Carroll County Energy LLC, South Field Energy LLC, AL Advanced Power Holdings, Inc.

Description: Joint Application for Authorization Under Section 203 of the Federal Power Act of Carroll County Energy LLC, et al.

Filed Date: 8/4/25.

Accession Number: 20250804-5192.

Comment Date: 5 p.m. ET 9/18/25.

Docket Numbers: EC25-125-000.

Applicants: Moxie Freedom LLC, Talen Generation, LLC.

Description: Joint Application for Authorization Under Section 203 of the Federal Power Act of Moxie Freedom LLC, et al.

Filed Date: 8/6/25.

Accession Number: 20250806-5206.

Comment Date: 5 p.m. ET 9/22/25.

Take notice that the Commission received the following exempt wholesale generator filings:

Docket Numbers: EG25-434-000.

Applicants: Garnet Energy Center, LLC.

Description: Garnet Energy Center, LLC submits Notice of Self-Certification of Exempt Wholesale Generator Status.

Filed Date: 8/8/25.

Accession Number: 20250808-5191.

Comment Date: 5 p.m. ET 8/29/25.

Docket Numbers: EG25-435-000.

Applicants: Manila Solar, LLC.

Description: Manila Solar, LLC submits Notice of Self-Certification of Exempt Wholesale Generator Status.

Filed Date: 8/8/25.

Accession Number: 20250808-5193.

Comment Date: 5 p.m. ET 8/29/25.

Docket Numbers: EG25-436-000.

Applicants: Red Butte Wind, LLC.

Description: Red Butte Wind, LLC submits Notice of Self-Certification of Exempt Wholesale Generator Status.

Filed Date: 8/8/25.

Accession Number: 20250808-5201.

Comment Date: 5 p.m. ET 8/29/25.

Docket Numbers: EG25-437-000.

Applicants: Three Waters Wind Farm, LLC.

Description: Three Waters Wind Farm, LLC submits Notice of Self-Certification of Exempt Wholesale Generator Status.

Filed Date: 8/8/25.

Accession Number: 20250808-5204.

Comment Date: 5 p.m. ET 8/29/25.

Docket Numbers: EG25-438-000.

Applicants: Trelina Solar Energy Center, LLC.

Description: Trelina Solar Energy Center, LLC submits Notice of Self-Certification of Exempt Wholesale Generator Status.

Filed Date: 8/8/25.

Accession Number: 20250808-5205.

Comment Date: 5 p.m. ET 8/29/25.

Docket Numbers: EG25-439-000.

Applicants: Tupelo Brake Solar, LLC.

Description: Tupelo Brake Solar, LLC submits Notice of Self-Certification of Exempt Wholesale Generator Status.

Filed Date: 8/8/25.

Accession Number: 20250808-5206.

Comment Date: 5 p.m. ET 8/29/25.

Docket Numbers: EG25-440-000.

Applicants: Escalante BESS I LLC.

Description: Escalante BESS I LLC submits Notice of Self-Certification of Exempt Wholesale Generator Status.

Filed Date: 8/11/25.

Accession Number: 20250811-5074.

Comment Date: 5 p.m. ET 9/2/25.

Take notice that the Commission received the following electric rate filings:

Docket Numbers: ER25-2430-001.

Applicants: Southwest Power Pool, Inc.

Description: Tariff Amendment: Deficiency Response in ER25-2430—Revisions to Implement Provisional Load to be effective 8/4/2025.

Filed Date: 8/11/25.

Accession Number: 20250811-5076.

Comment Date: 5 p.m. ET 9/2/25.

Docket Numbers: ER25-2961-000.

Applicants: Lafitte Solar, LLC.

Description: Supplement to 07/23/2025, Lafitte Solar, LLC tariff filing.

Filed Date: 7/31/25.

Accession Number: 20250731-5301.

Comment Date: 5 p.m. ET 8/21/25.

Docket Numbers: ER25-3061-001.

Applicants: Duke Energy Progress, LLC.

Description: Tariff Amendment: Errata to Updated Nuclear Decommissioning Expense Filing to be effective 10/1/2025.

Filed Date: 8/8/25.

Accession Number: 20250808-5196.

Comment Date: 5 p.m. ET 8/29/25.

Docket Numbers: ER25-3124-000.

Applicants: Dairyland Power Cooperative, MRP Elgin LLC,MRP Rocky Road LLC.

Description: Dairyland Power Cooperative, submits a limited waiver request of Section 6.6(g) of Attachment DD of the PJM OATT, for exception to the must-offer requirement of 2027/2028 Delivery Year.

Filed Date: 8/7/25.

Accession Number: 20250807-5135.

Comment Date: 5 p.m. ET 8/28/25.

Docket Numbers: ER25-3136-000.

Applicants: Blue Moon Energy LLC.

Description: Initial Rate Filing: Application for Market Based Rate to be effective 10/8/2025.

Filed Date: 8/8/25.

Accession Number: 20250808-5195.

Comment Date: 5 p.m. ET 8/29/25.

Docket Numbers: ER25-3137-000.

Applicants: ISO New England Inc.

Description: ISO New England Inc. Capital Budget Quarterly Filing for 2nd Quarter of 2025.

Filed Date: 8/8/25.

Accession Number: 20250808-5207.

Comment Date: 5 p.m. ET 8/29/25.

Docket Numbers: ER25-3138-000.

Applicants: Flat Ridge 5 Wind Energy LLC.

Description: Tariff Amendment: MBR Tariff Cancellation to be effective 12/31/9998.

Filed Date: 8/8/25.

Accession Number: 20250808-5215.

Comment Date: 5 p.m. ET 8/29/25.

Docket Numbers: ER25-3139-000.

Applicants: PJM Interconnection, L.L.C.

Description: § 205(d) Rate Filing: Original NSA, SA No. 7719; Queue No. AE2-113 to be effective 10/8/2025.

Filed Date: 8/8/25.

Accession Number: 20250808-5220.

Comment Date: 5 p.m. ET 8/29/25.

Docket Numbers: ER25-3141-000.

Applicants: Southwest Power Pool, Inc.

Description: § 205(d) Rate Filing: 3023R4 Panama Energy Center GIA to be effective 7/23/2025.

Filed Date: 8/11/25.

Accession Number: 20250811-5006.

Comment Date: 5 p.m. ET 9/2/25.

Docket Numbers: ER25-3142-000.

Applicants: PJM Interconnection, L.L.C.

Description: § 205(d) Rate Filing: Amendment to ISA_ICSA, SA Nos. 5562_5563; AB2-032/AB2-153 to be effective 10/11/2025.

Filed Date: 8/11/25.

Accession Number: 20250811-5022.

Comment Date: 5 p.m. ET 9/2/25.

Docket Numbers: ER25-3143-000.

Applicants: PJM Interconnection, L.L.C.

Description: § 205(d) Rate Filing: Original Construction Service Agreement No. 7730; NYISO Project Identifier Q1080 to be effective 7/15/2025.

Filed Date: 8/11/25.

Accession Number: 20250811-5052.

Comment Date: 5 p.m. ET 9/2/25.

Docket Numbers: ER25-3144-000.

Applicants: Escalante BESS I LLC.

Description: § 205(d) Rate Filing: Market-Based Rate Application and Request for Waivers and Blanket Approvals to be effective 10/11/2025.

Filed Date: 8/11/25.

Accession Number: 20250811-5058.

Comment Date: 5 p.m. ET 9/2/25.

Docket Numbers: ER25-3145-000.

Applicants: PJM Interconnection, L.L.C.

Description: § 205(d) Rate Filing: Rev to PJM Tariff, Parts VII, VIII & IX RE: Interconnection Process GDECS No. 2 to be effective 8/12/2025.

Filed Date: 8/11/25.

Accession Number: 20250811-5064.

Comment Date: 5 p.m. ET 9/2/25.

Docket Numbers: ER25-3146-000.

Applicants: Midcontinent Independent System Operator, Inc.

Description: § 205(d) Rate Filing: 2025-08-11_SA 4266 Ameren IL 1st Rev MPFCA J1199 J1453 J1454 (Havana) to be effective 10/11/2025.

Filed Date: 8/11/25.

Accession Number: 20250811-5092.

Comment Date: 5 p.m. ET 9/2/25.

Docket Numbers: ER25-3147-000.

Applicants: MATL LLP.

Description: § 205(d) Rate Filing: Cutbank Solar LGIA Filing to be effective 8/5/2025.

Filed Date: 8/11/25.

Accession Number: 20250811-5100.

Comment Date: 5 p.m. ET 9/2/25.

The filings are accessible in the Commission's eLibrary system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 11, 2025.
Carlos D. Clay,
Deputy Secretary.

[FR Doc. 2025-15456 Filed 8-13-25; 8:45 am]

BILLING CODE 6717-01-P